DEPARTMENT OF LABOR

Employment and Training Administration

[TA-W-53,295]

Stimson Lumber Company, Atlas Plant, Coeur d'Alene, ID; Notice of Termination of Investigation

Pursuant to section 221 of the Trade Act of 1974, an investigation was initiated on October 20, 2003, in response to a worker petition which was filed by a company official on behalf of workers at Stimson Lumber Company, Coeur d'Alene, Idaho.

The petitioner has requested that the petition be withdrawn. Consequently, the investigation has been terminated.

Signed in Washington, DC this 31st day of October, 2003.
Elliott S. Kushner,
Certifying Officer, Division of Trade Adjustment Assistance.

[FR Doc. 03-29258 Filed 11-21-03; 8:45 am]

BILLING CODE 4510-30-P